DEPARTMENT OF COMMERCE

International Trade Administration

[A-570-848]

Freshwater Crawfish Tail Meat from the People's Republic of China: Notice of Rescission of Antidumping Duty New Shipper Review of Shanghai Ocean Flavor International Trading Co., Ltd.

AGENCY: Import Administration, International Trade Administration, Department of Commerce.

SUMMARY: On April 30, 2003 the Department of Commerce (Department) initiated a new shipper review of the antidumping duty order on freshwater crawfish tail meat from the People's Republic of China covering the period September 1, 2002, through February 28, 2003. See Freshwater Crawfish Tail Meat from the People's Republic of China: Initiation of Antidumping Duty New Shipper Review, 68 FR 23962 (May 6, 2003) (Initiation Notice). This new shipper review covered the Shanghai Ocean Flavor International Trading Co., Ltd. (Shanghai Ocean), an exporter of subject merchandise. For the reasons discussed below, we are rescinding the review of Shanghai Ocean.

EFFECTIVE DATE: July 30, 2004.

FOR FURTHER INFORMATION CONTACT: Thomas Gilgunn at (202) 482-4236, AD/CVD Enforcement, Office 7, Group III, Import Administration, International Trade Administration, U.S. Department of Commerce, 14th Street and Constitution Avenue, NW, Washington, DC 20230.

SUPPLEMENTARY INFORMATION:

Background

Since the Department published its preliminary results for this new shipper review, see Notice of Preliminary Results of Antidumping Duty New Shipper Review: Freshwater Crawfish Tail Meat from the People's Republic of China, 69 FR 9800 (March 2, 2004), the following events have occurred. On April 5, 2004, Shanghai Ocean and the Crawfish Processors Alliance (petitioners) filed case briefs. On April 12, 2004, Shanghai Ocean and the petitioners filed rebuttal briefs. On April 26, 2004, the Department issued a supplemental questionnaire. On May 1, 2004, Shanghai Ocean submitted its supplemental questionnaire response. On May 5, 2004, a hearing was held. On June 2, 2004, we asked Shanghai Ocean to explain the significant and material differences between the invoices and the packing lists provided to the Department by Shanghai Ocean and those provided to Customs and Border Protection (CBP) at time of entry. Moreover, we advised Shanghai Ocean that unless they demonstrated with supporting evidence that the documents they submitted to the Department were accurate, we may rescind this review consistent with section 351.214(b)(2)(iv) of the Department's regulations. Shanghai Ocean submitted its response on June 8, 2004.

Scope of the Antidumping Duty Order

The product covered by this antidumping duty order is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTS) under item numbers 1605.40.10.10 and 1605.40.10.90, which are the new HTS numbers for prepared foodstuffs, indicating peeled crawfish tail meat and other, as introduced by CBP in 2000, and HTS items 0306.19.00.10 and 0306.29.00, which are reserved for fish and crustaceans in general. The HTS subheadings are provided for convenience and customs purposes only. The written description of the scope of this order is dispositive.

Rescission of Review

Pursuant to sections 351.214(b)(2)(iv)(B-C) of the Department's regulations, a request for a new shipper review must contain documentation which establishes the volume of the exporter's first and subsequent shipments of subject merchandise to the United States and the date of the exporter's first sale of subject merchandise to an unaffiliated customer in the United States. At the time Shanghai Ocean requested this new shipper review, it appeared that the regulatory requirements were met and we initiated the new shipper review. See Initiation Notice. Since the initiation, Shanghai Ocean has acknowledged that the commercial documents it provided with the request for review, in accordance with sections 351.214(b)(2)(iv)(B-C) of the Department's regulations, were not the same commercial documents submitted to CBP at the time of entry. The Department's analysis of the two sets of commercial documents show that there are material and significant differences between the documents submitted to the Department and those submitted to CBP. As such, we have determined that we cannot rely on the commercial documents submitted to the Department in Shanghai Ocean's request for new shipper review. Accordingly, we are rescinding this new shipper review. Because much of the information on which the Department has based its decision is business proprietary information, our full analysis is set forth in our memorandum “Freshwater Crawfish Tail Meat from The People's Republic of China: Rescission of the New Shipper Review of Shanghai Ocean Flavor International Trade Co., Ltd.” dated July 23, 2004, a public version of which is on file in the Central Records Unit, Room B-099, Department of Commerce. Since the Department is rescinding this new shipper review, we are not calculating a company-specific rate for Shanghai Ocean. As such, we are not addressing issues raised in the case briefs by Shanghai Ocean and the petitioners regarding surrogate values and calculation methodology.

Cash Deposit Requirements

The Department will notify CBP that bonding is no longer permitted to fulfill security requirements for shipments from Shanghai Ocean of freshwater crawfish tail meat from the PRC entered, or withdrawn from warehouse, for consumption in the United States on or after the publication of this notice of rescission of antidumping duty new shipper review in the Federal Register. Further, effective upon publication of this notice for all shipments of the subject merchandise exported by Shanghai Ocean, and entered, or withdrawn from warehouse, for consumption, the cash deposit rate will be the PRC-wide rate of 223.01 percent ad valorem.

Assessment of Antidumping Duties

The Department will instruct CBP to assess antidumping duties on all appropriate entries. Since we are rescinding this antidumping duty new shipper review with respect to Shanghai Ocean, the PRC-wide rate of 223.01 percent in effect at the time of entry applies to all exports of freshwater crawfish tail meat from the PRC by Shanghai Ocean entered, or withdrawn from warehouse for consumption during the period of review (September 1, 2002, through February 28, 2003). The Department will issue appropriate assessment instructions directly to CBP within 15 days of publication of this notice of rescission of antidumping duty new shipper review.

Notification to Importers

This notice also serves as a reminder to importers of their responsibility under section 351.402(f) of the Department's regulations to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective orders (APO) of their responsibility concerning the disposition of proprietary information disclosed under APO in accordance with section 351.305(a)(3) of the Department's regulations. Timely written notification of the return/destruction of APO material or conversion to judicial protective order is hereby requested. Failure to comply with the regulations and terms of an APO is a violation which is subject to sanctions.

We are issuing and publishing this determination and notice in accordance with sections 751(a)(2)(B) and 777(i)(1) of the Tariff Act of 1930, as amended.

Dated: July 23, 2004.
Holly A. Kuga,
Acting Assistant Secretary for Import Administration.

[FR Doc. 04-17421 Filed 7-29-04; 8:45 am]

BILLING CODE 3510-DS-S